DEPARTMENT OF COMMERCE

National Oceanic and Atmospheric Administration

Agency Information Collection Activities; Submission to the Office of Management and Budget (OMB) for Review and Approval; Comment Request; StormReady, TsunamiReady, TsunamiReady Supporter, & StormReady Supporter Application Forms

AGENCY: National Oceanic & Atmospheric Administration (NOAA), Commerce.

ACTION: Notice of Information Collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before June 21, 2021.

ADDRESSES: Interested persons are invited to submit written comments to Adrienne Thomas, NOAA PRA Officer, at Adrienne.thomas@noaa.gov. Please reference OMB Control Number 0648-0419 in the subject line of your comments. Do not submit Confidential Business Information or otherwise sensitive or protected information.

FOR FURTHER INFORMATION CONTACT: Requests for additional information or specific questions related to collection activities should be directed to Melody Magnus or Doug Hilderbrand, StormReady Focal Points, National Weather Service, at melody.magnus@noaa.gov or douglas.hilderbrand@noaa.gov.

SUPPLEMENTARY INFORMATION:

I. Abstract

The National Weather Service (NWS) established the StormReady program in 1999 and the TsunamiReady program in 2002 to help communities, counties, Indian nations, universities and colleges, military bases, government sites, commercial enterprises and other groups reduce the potential for weather-related and tsunami hazards through advanced planning, education, and awareness. The program encourages communities to take a new, proactive approach to improving local hazardous weather operations by providing emergency managers with clear-cut guidelines on how to improve their hazardous weather operations. By participating in this program, local agencies earn recognition for their jurisdiction by meeting guidelines established by the NWS in partnership with federal, state, and local emergency management professionals. Information and details on the StormReady and TsunamiReady programs are located at https://www.weather.gov/stormready/ and https://www.weather.gov/tsunamiready/.

A Supporter is an organization, business, facility, or local government entity actively engaged in weather safety and preparedness that is unable to meet all the requirements of the full StormReady or TsunamiReady program. Sites may be eligible based on the bylaws of the local NWS StormReady Advisory Board and endorsement of local emergency management. A local StormReady Advisory Board has final approval for Supporter designation.

StormReady/TsunamiReady are voluntary programs that provide guidance and incentive to officials interested in improving their hazardous weather operations. The government will use the information collected by the StormReady/TsunamiReady application to determine whether a community has met all of the guidelines to receive StormReady/TsunamiReady recognition.

II. Method of Collection

The information is collected via a digital or paper form. The form is accessible on the internet in PDF. Requirements are verified by NWS staff via an in person or virtual site visit.

III. Data

OMB Control Number: 0648-0419.

Form Number(s): None.

Type of Review: Regular. Extension of a current information collection.

Affected Public: Government agencies, Tribal Nations, businesses or other for profit organizations.

Estimated Number of Respondents: 125 per year.

Estimated Time per Response: 1 hour for application; 1 hour to meet with National Weather Service representative.

Estimated Total Annual Burden Hours: 250 hours.

Estimated Total Annual Cost to Public: None.

Respondent's Obligation: Voluntary.

Legal Authority: None.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2021-08266 Filed 4-20-21; 8:45 am]

BILLING CODE 3510-KE-P